DEPARTMENT OF HEALTH AND HUMAN SERVICES

Centers for Disease Control and Prevention

Study Protocol To Develop a Database for Identification and Assessment of Engineering Control of Noise From Powered Hand Tools Used in the Construction Industry

AGENCY: National Institute for Occupational Safety and Health (NIOSH), Centers for Disease Control and Prevention (CDC), Department of Health and Human Services (DHHS).

ACTION: Notice of request for comments and information on study protocol to develop a database for identification and assessment of engineering control of noise from powered hand tools used in the construction industry.

SUMMARY: NIOSH invites written comments from the public on the research study protocol describing the proposed project. Copies of the study protocol document may be obtained by contacting the individual referenced below. The document may also be obtained in .pdf format at the following Web site: http://www.cdc.gov/niosh/ext-supp-mat/powertools/powertools.html. To view the document in .pdf format, you must have the Adobe Acrobat Reader Program. It is available free of charge at http://www.adobe.com/support/downloads/main.html.

DATES: Comments concerning this notice must be received on or before September 29, 2003.

ADDRESSES: Comments may be transmitted either electronically to Chayden@CDC.gov, by facsimile to 513/533-8139, or by regular mail or hand delivery to Mr. Charles Hayden, NIOSH Engineering Noise Control Project, Robert A. Taft Laboratories, M/S C-27, 4676 Columbia Parkway, Cincinnati, Ohio 45226. E-mail attachments should be formatted as WordPerfect 7/8/9 or Microsoft Word.

FOR FURTHER INFORMATION CONTACT: Charles Hayden, Robert A. Taft Laboratories, M/S C-27, 4676 Columbia Parkway, Cincinnati, Ohio 45226, 513/533-8152.

SUPPLEMENTARY INFORMATION: This project will develop a noise control technology database consisting of powered hand tools used in the construction industry with respective sound power levels and workers' 8-hour time-weighted average noise exposure level. The sound power level and workers' exposure level data will be acquired in a hemi-anechoic laboratory by NIOSH researchers. The database will facilitate the use of engineering noise controls by gathering precise information on the effectiveness of existing control technology. The principal product of the study and the primary method of information dissemination will be the searchable web-site database of powered hand tools used in the construction industry with respective operational specifications, sound power levels, and workers' exposure level. This database and specific information on noise control applications also will be disseminated through practical guidelines, handbooks, and case study reports to aid safety and health professionals, noise control engineers, equipment and noise-control systems' manufacturers, and trade associations in applying effective noise control technologies.

Comments are invited on:

1. Whether the proposed database will be useful for its planned purposes;

2. Ways to enhance the quality, utility, clarity, and dissemination of the information to be collected;

3. Whether the study population is properly targeted and whether access to the study population is feasible; and

4. Whether the makes and models of powered hand tools with respective sound power level data or simply generic terms should be reported in the sound power level database.

The Director, Management Analysis and Services Office, has been delegated the authority to sign Federal Register notices pertaining to announcements of meetings and other committee management activities, for both CDC and the Agency for Toxic Substances and Disease Registry.

Dated: July 23, 2003.
Alvin Hall,
Director, Management Analysis and Services Office, Centers for Disease Control and Prevention.

[FR Doc. 03-19201 Filed 7-28-03; 8:45 am]

BILLING CODE 4163-19-P